FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/Address | Date reissued
004365F | Logistics Management International, Inc., 600 Rinehart Road, Suite 1012, Lake Mary, FL 32746 | November 10, 2011.
019085NF | Hanjin Logistics, Inc., 80 East Route 4, Suite 490, Paramus, NJ 07652 | October 16, 2011.

Sandra L. Kusumoto,
Director, Bureau of Certification and Licensing.

[FR Doc. 2012-416 Filed 1-11-12; 8:45 am]

BILLING CODE 6730-01-P